DEPARTMENT OF DEFENSE

Department of the Army; Corps of Engineers

Inland Waterways Users Board

AGENCY: Department of the Army, U.S. Army Corps of Engineers, DoD.

ACTION: Notice of open meeting.

SUMMARY: In Accordance with 10(a)(2) of the Federal Advisory Committee Act (Pub. L. 92-463), announcement is made of the forthcoming meeting.

Name of Committee: Inland Waterways Users Board (Board).

Date: April 13, 2010.

Location: The Waterford at Springfield, Gibson Ballroom, 6715 Commerce Street, Springfield, VA 22150, (703) 719-5700, accommodations at Courtyard by Marriott Springfield, 6710 Commerce Street, Springfield, VA 22150, (703-924-7200 or 1-800-321-2211 or 1-888-236-2427).

Time: Registration will begin at 1 p.m. and the meeting is scheduled to adjourn at approximately 5 p.m.

Agenda: The Board will hear the results of the Inland Marine Transportation System (IMTS) Investment Strategy Team activities, as well as the status of the funding for inland navigation projects and studies and the status of the Inland Waterways Trust Fund.

FOR FURTHER INFORMATION CONTACT: Mr. Mark R. Pointon, Headquarters, U.S. Army Corps of Engineers, CECW-ID, 441 G Street, NW., Washington, DC 20314-1000; Ph: 202-761-4691.

SUPPLEMENTARY INFORMATION: The meeting is open to the public. Any interested person may attend, appear before, or file statements with the committee at the time and in the manner permitted by the committee.

Brenda S. Bowen,
Army Federal Register Liaison Officer.

[FR Doc. 2010-5436 Filed 3-11-10; 8:45 am]

BILLING CODE 3720-58-P